DEPARTMENT OF TRANSPORTATION

Pipeline and Hazardous Materials Safety Administration

Hazardous Materials: Notice of Application for Special Permits

AGENCY: Office of Hazardous Materials Safety, Pipeline and Hazardous Materials Safety Administration, (PHMSA), DOT.

ACTION: List of applications for special permits.

SUMMARY: In accordance with the procedures governing the application for, and the processing of, special permits from the Department of Transportation's Hazardous Material Regulations (49 CFR part 107, subpart B), notice is hereby given that the Office of Hazardous Materials Safety has received the application described herein. Each mode of transportation for which a particular special permit is requested is indicated by a number in the “Nature of Application” portion of the table below as follows: 1—Motor vehicle, 2—Rail freight, 3—Cargo vessel, 4—Cargo aircraft only, 5—Passenger-carrying aircraft.

DATES: Comments must be received on or before April 15, 2016.

Address Comments To: Record Center, Pipeline and Hazardous Materials Safety Administration, U.S. Department of Transportation, Washington, DC 20590.

Comments should refer to the application number and be submitted in triplicate. If confirmation of receipt of comments is desired, include a self-addressed stamped postcard showing the special permit number.

FOR FURTHER INFORMATION CONTACT: Ryan Paquet, Director, Office of Hazardous Materials Approvals and Permits Division, Pipeline and Hazardous Materials Safety Administration, U.S. Department of Transportation, East Building, PHH-30, 1200 New Jersey Avenue Southeast, Washington, DC 20590-0001, (202)366-4535.

Copies of the applications are available for inspection in the Records Center, East Building, PHH-30, 1200 New Jersey Avenue Southeast, Washington, DC or at http://regulations.gov.

This notice of receipt of applications for special permit is published in accordance with Part 107 of the Federal hazardous materials transportation law (49 U.S.C. 5117(b); 49 CFR I.53(b)).

Issued in Washington, DC, on January 28, 2016.
Don Burger,
Chief, General Approvals and Permits.

Application No. | Docket No. | Applicant | Regulation(s) affected | Nature of the special permits thereof
Special Permits Data
20065-N |  | BOOST OXYGEN, LLC | 176.1, 177.800, 172.500, 173.302a(a)(1), 172.200, 172.400 | To authorize the transportation in commerce of certain DOT Specification 2Q containers with Division 2.2 materials.
20084-N |  | CIMARRON COMPOSITES, LLC | 173.302a | To authorize the manufacture, mark, sale and use of non-DOT specification cylinders for the transportation in commerce of certain Divisions 2.1 and 2.2 compressed gases.
20088-N |  | DSM NUTRITIONAL PRODUCTS, INC | 107.601(a), 177.804(a), 172.500(a), 172.504(e), 172.400 | To authorize the transportation in commerce of certain Division 4.2, Packing Group III self-heating solid materials as excepted from registration, marking, labeling, placarding, and certain carrier requirements.

[FR Doc. 2016-05687 Filed 3-15-16; 8:45 am]

BILLING CODE 4909-60-M